DEPARTMENT OF HOMELAND SECURITY

Coast Guard

33 CFR Parts 100 and 165

[Docket Number USCG-2023-0001]

RIN 1625-AA08 and 1625-AA00

Special Local Regulations and Safety Zones; Recurring Marine Events, Fireworks Displays, and Swim Events Held in the Coast Guard Sector Long Island Sound Zone

AGENCY: Coast Guard, DHS.

ACTION: Notice of proposed rulemaking.

SUMMARY: The Coast Guard is proposing to amend the special local regulations and annual recurring marine events requiring safety zones for fireworks displays and swim events along the Coast Guard Sector Long Island Sound Captain of the Port Zone. When enforced, these special local regulations and safety zones restrict vessels from transiting regulated areas during certain annually recurring events. The proposed amendments to the special local regulations and safety zones are intended to expedite public notification and ensure the protection of the maritime public and event participants from the hazards associated with certain marine events. We invite your comments on this proposed rulemaking.

DATES: Comments and related material must be received by the Coast Guard on or before April 24, 2023.

ADDRESSES: You may submit comments identified by docket number USCG-2023-0001 using the Federal Decision Making Portal at https://www.regulations.gov. See the “Public Participation and Request for Comments” portion of the SUPPLEMENTARY INFORMATION section for further instructions on submitting comments.

FOR FURTHER INFORMATION CONTACT: If you have questions about this proposed rulemaking, call or email Marine Science Technician 2nd Class Mark Paget, Waterways Management Division, Sector Long Island Sound; telephone (203) 468-4583; email mark.a.paget@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background, Purpose, and Legal Basis

Swim events, fireworks displays, and marine events are held on an annual recurring basis on the navigable waters within the Coast Guard Sector Long Island Sound COTP Zone. The Coast Guard has established special local regulations and safety zones for some of these annually recurring events to ensure the protection of the maritime public and event participants from potential hazards.

The COTP Sector Long Island Sound proposes to revise 33 CFR 100.100 Special Local Regulations; Regattas and Boat Races in the Coast Guard Sector Long Island Sound Captain of the Port Zone, Table 1 to § 100.100 and 33 CFR 165.151 Safety Zones; Fireworks Displays, Air Shows, and Swim Events in the Captain of the Port Long Island Sound Zone, Table 1 to § 165.151 and to make notifications of the enforcement periods of exact dates and times through the Local Notice to Mariners and Broadcast Notice to Mariners in advance of the events. Under these current regulations, § 100.100 and 165.151, if an event does not have a date listed, then exact dates and times of the enforcement period are announced through a Notice of Enforcement in the Federal Register.

The marine events listed therein include air shows, firework displays, swim events, and other marine related events requiring a limited access area restricting vessel traffic for safety purposes. The proposed revision to the tables would more accurately reflect the dates of marine events based on historical occurrences.

The purpose of this rulemaking is to ensure the safety of vessels and the navigable waters before, during, and after a scheduled event. The Coast Guard is proposing this rulemaking under authority in 46 U.S.C. 70034 and 70041.

The Coast Guard encourages the public to participate in this proposed rulemaking through the comment process so that any necessary changes can be identified and implemented in a timely and efficient manner. The Coast Guard will address all public comments accordingly, whether through response, additional revision to the regulation, or otherwise.

III. Discussion of Proposed Rule

Parts 100 and 165 of 33 CFR contain regulations establishing special local regulations and safety zones to restrict vessel traffic for the safety of persons and property. Section 100.100 establishes Special Local Regulations to ensure the safety and security of marine related events, participants, and spectators in the Coast Guard Sector Long Island Sound Zone.

From time to time, these sections require revisions to properly advertise the recurring regulations and to remove such regulations that have not been enforced over a 5-year period in the Coast Guard Sector Long Island Sound Zone. This proposed rule would reduce the number of events listed in the Table 1 to § 100.100 from 21 to 20.

The Coast Guard proposes to amend regulations in 33 CFR 100.100 Special Local Regulations; Regattas and Boat Races in the Coast Guard Sector Long Island Sound Captain of the Port Zone, by revising § 100.100(a) to note that that exact dates and times of the enforcement period of marine events listed in Table 1 to § 100.100 would be made by means such as Local Notice to Mariners and Broadcast Notice to Mariners in advance of the events and to revise the Table 1 to § 100.100 as indicated below. Our proposed revision of § 100.100(a) and Table 1 to § 100.100 appear at the end of this document. Section 165.151, Table 1, establishes recurring safety zones to restrict vessel transit into and through specified areas to protect spectators, mariners, and other persons and property from potential hazards presented during certain events taking place in Sector Long Island Sound's COTP zone. From time to time, this section requires amendments to properly reflect the recurring safety zones in Table 1. This proposed rule would reduce the number of events listed from in Table 1 from 74 to 29. Most of those removed are events that no longer occur or do not require a safety zone.

The Coast Guard proposes to amend 33 CFR 165.151 Safety Zones; Fireworks Displays, Air Shows, and Swim Events in the Captain of the Port Long Island Sound Zone, by revising § 165.151(a)(2) to note we would use Local Notice to Mariners and Broadcast Notice to Mariners to announce the exact dates and times of the enforcement period of marine events listed in Table 1 to § 165.151. These notifications would be made in advance of the events. This proposed rule would remove the current provision in § 165.151(a)(2) that the Coast Guard will publish notices in the Federal Register to announce the exact dates and times of the enforcement period for events that do not have a date for the event listed in the § 165.151. This information would be made solely via Local Notice to Mariners and Broadcast Notice to Mariners.

Our proposed revision of § 165.151(a)(2) and Table 1 to § 165.151 appear in the regulatory text at the end of this document. The purpose of this proposed rule is the same as for the existing regulation, to restrict general navigation in the safety zones during these events. Vessels intending to transit the designated waterway through the safety zones will only be allowed to transit the area when the COTP or a designated representative has deemed it safe to do so or at the completion of the events. The proposed annually recurring safety zones are necessary to provide for the safety of life on navigable waters of the U.S. during the events.

IV. Regulatory Analyses

We developed this proposed rule after considering numerous statutes and Executive Orders related to rulemaking. A summary of our analyses based on these statutes and Executive Orders follows.

A. Regulatory Planning and Review

Executive Orders 12866 and 13563 direct agencies to assess the costs and benefits of available regulatory alternatives and, if regulation is necessary, to select regulatory approaches that maximize net benefits. This NPRM has not been designated a “significant regulatory action,” under Executive Order 12866. Accordingly, the NPRM has not been reviewed by the Office of Management and Budget (OMB).

This regulatory action determination is based on the size, location, and duration of the special local regulations and safety zones. These regulated areas are limited in size and duration and are usually positioned away from high vessel traffic areas. Moreover, the Coast Guard would issue a Broadcast Notice to Mariners via VHF-FM marine channel 16 about the zones and the rule would allow vessels to seek permission to enter the zones. Vessel traffic would also be able to request permission from the COTP or a designated representative to enter the restricted area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit these regulated areas may be small entities, for the reasons stated in section IV.A above this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves revising the tables to 33 CFR 100.100 and 33 CFR 165.151. Normally such actions are categorically excluded from further review under paragraph L60a, L60b, and L61 of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2023-0001 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects

33 CFR Part 100

Harbors, Marine safety, Navigation (water), Reporting and recordkeeping requirements, Security measures, Waterways.

33 CFR Part 165

Marine Safety, Navigation (water), Reporting and recordkeeping requirements, Waterways.

For the reasons discussed in the preamble, the Coast Guard is proposing to amend 33 CFR parts 100 and 165 as follows:

PART 100—SAFETY OF LIFE ON NAVIGABLE WATERS

1. The authority citation for part 100 continues to read as follows:

Authority: 46 U.S.C. 70041; 33 CFR 1.05-1.

2. Revise § 100.100 paragraph (a) and Table 1 to § 100.100 to read as follows:

§ 100.100 Special Local Regulations; Regattas and Boat Races in the Coast Guard Sector Long Island Sound Captain of the Port Zone.

(a) The following regulations apply to the marine events listed in the Table 1 to § 100.100. These regulations will be enforced for the duration of each event, on or about the dates indicated in Table 1 to 100.100. Notification of the exact dates and times of the enforcement period would be made to the local maritime community through all appropriate means, such as Local Notice to Mariners and Broadcast Notice to Mariners, in advance of the marine events. The First Coast Guard District Local Notice to Mariners can be found at: https://www.navcen.uscg.gov.

* * * * *

Table 1 to § 100.100
5 | May
5.1 Harvard-Yale Regatta | • Date: A single day in May or June.
| • Time: 8 a.m. to 6 p.m.
| • Location: All waters of the Thames River at New London, Connecticut between the Penn Central Draw Bridge at position 41°21′46.94″ N, 072°05′14.46″ W to Bartlett Cove at position 41°25′35.9″ N, 072°05′42.89″ W (NAD 83). All positions are approximate.
5.2 Bethpage Air Show at Jones Beach | • Date: The Thursday through Sunday before Memorial Day each May.
| • Time:
| (1) “No Entry Area” will be enforced each day from the start of the air show until 30 minutes after it concludes. Exact time will be determined annually.
| (2) The “Slow/No Wake Area” and the “No Southbound Traffic Area” will be enforced each day for six hours after the air show concludes. Exact time will be determined annually.
| • Locations:
| (1) “No Entry Area”: All waters of Oyster Bay Harbor in Long Island Sound off Oyster Bay, NY within a 1000-foot radius of the launch platform in approximate position 40°53′42.50″ N, 073°30′04.30″ W (NAD 83).
| (2) “Slow/No Wake Area”: All navigable waters between Meadowbrook State Parkway and Wantagh State Parkway and contained within the following area. Beginning in position 40°35′49.01″ N, 73°32′33.63″ W; then north along the Meadowbrook State Parkway to its intersection with Merrick Road in position 40°39′14″ N, 73°34′0.76″ W; then east along Merrick Road to its intersection with Wantagh State Parkway in position 40°39′51.32″ N, 73°30′43.36″ W; then south along the Wantagh State Parkway to its intersection with Ocean Parkway in position 40°35′47.30″ N, 073°30′29.17″ W; then west along Ocean Parkway to its intersection with Meadowbrook State Parkway at the point of origin (NAD 83). All positions are approximate.
| (3) “No Southbound Traffic Area”: All navigable waters of Zach's Bay south of the line connecting a point near the western entrance to Zach's Bay at position 40°36′29.20″ N, 073°29′22.88″ W and a point near the eastern entrance of Zach's Bay at position 40°36′16.53″ N, 073°28′57.26″ W (NAD 83). All positions are approximate.
6 | June
6.1 Swim Across America Greenwich | • Date: A single day in June.
| • Time: 5:30 a.m. to 12 p.m.
| • Location: All navigable waters of Stamford Harbor within an area starting at a point in position 41°01′32.03″ N, 073°33′8.93″ W, then southeast to a point in position 41°01′15.01″ N, 073°32′55.58″ W; then southwest to a point in position 41°0′49.25″ N, 073°33′20.36″ W; then northwest to a point in position 41°0′58″ N, 073°33′27″ W; then northeast to a point in position 41°1′15.8″ N, 073°33′9.85″ W, then heading north and ending at point of origin (NAD 83). All positions are approximate.
7 | July
7.1 Connecticut River Raft Race, Middletown, CT | • Date: A single day between the last Saturday in July through first Saturday of August.
| • Time: 10 a.m. to 2 p.m.
| • Location: All waters of the Connecticut River near Middletown, CT, between Gildersleeve Island (Marker no. 99) at position 41°36′02.13″ N, 072°37′22.71″ W; and Portland Riverside Marina (Marker no. 88) at position 41°33′38.3″ N, 072°37′36.53″ W (NAD 83). All positions are approximate.
| • Additional Stipulations: Spectators or other vessels shall not anchor, block, loiter, or impede the transit of event participants or official patrol vessels in the regulated areas unless authorized by COTP or designated representative.
7.2 Dolan Family July 4th Fireworks | • Date: A single day in July.
| • Time: To be determined annually.
| • Locations:
| (1) “No Entry Area”: All waters of Oyster Bay Harbor in Long Island Sound off Oyster Bay, NY, within a 1,000-foot radius of the launch platform in approximate position 40°53′42.50″ N, 073°30′04.30″ W (NAD 83).
| (2) “Slow/No Wake Area”: All waters of Oyster Bay Harbor in Long Island Sound off Oyster Bay, NY, contained within the following area; beginning at a point on land in position at 40°53′12.43″ N, 073°31′13.05″ W near Moses Point; then east across Oyster Bay Harbor to a point on land in position at 40°53′15.12″ N, 073°30′38.45″ W; then north along the shoreline to a point on land in position at 40°53′34.43″ N, 073°30′33.42″ W near Cove Point; then east along the shoreline to a point on land in position at 40°53′41.67″ N, 073°29′40.74″ W near Cooper Bluff; then south along the shoreline to a point on land in position 40°53′05.09″ N, 073°29′23.32″ W near Eel Creek; then east across Cold Spring Harbor to a point on land in position 40°53′06.69″ N, 073°28′19.9″ W; then north along the shoreline to a point on land in position 40°55′24.09″ N, 073°29′49.09″ W near Whitewood Point; then west across Oyster Bay to a point on land in position 40°55′5.29″ N, 073°31′19.47″ W near Rocky Point; then south along the shoreline to a point on land in position 40°54′04.11″ N, 073°30′29.18″ W near Plum Point; then northwest along the shoreline to a point on land in position 40°54′09.06″ N, 073°30′45.71″ W; then southwest along the shoreline to a point on land in position 40°54′03.2″ N, 073°31′01.29″ W; and then south along the shoreline back to point of origin (NAD 83). All positions are approximate.
7.3 Jones Beach State Park Fireworks | • Date: A single day in July.
| • Time: To be determined annually.
| • Locations:
| (1) “No Entry Area”: All waters off of Jones Beach State Park, Wantagh, NY, within a 1,000-foot radius of the launch platform in approximate position 40°34′56.68″ N, 073°30′31.19″ W (NAD 83).
| (2) “Slow/No Wake Area”: All navigable waters between Meadowbrook State Parkway and Wantagh State Parkway and contained within the following area. Beginning in position at 40°35′49.01″ N, 073°32′33.63″ W; then north along the Meadowbrook State Parkway to its intersection with Merrick Road in position at 40°39′14″ N, 073°34′0.76″ W; then east along Merrick Road to its intersection with Wantagh State Parkway in position at 40°39′51.32″ N, 073°30′43.36″ W; then south along the Wantagh State Parkway to its intersection with Ocean Parkway in position at 40°35′47.30″ N, 073°30′29.17″ W; then west along Ocean Parkway to its intersection with Meadowbrook State Parkway at the point of origin (NAD 83). All positions are approximate.
| (3) “No Southbound Traffic Area”: All navigable waters of Zach's Bay south of the line connecting a point near the western entrance to Zach's Bay in position at 40°36′29.20″ N, 073°29′22.88″ W and a point near the eastern entrance of Zach's Bay in position at 40°36′16.53″ N, 073°28′57.26″ W (NAD 83). All positions are approximate.
7.4 Maggie Fischer Cross Bay Swim | • Date: A single day in July.
| • Time: 5 a.m. to noon.
| • Location: Waters of the Great South Bay, NY, within 100 yards of the race course. Starting Point at the Fire Island Lighthouse Dock in position at 40°38′01″ N, 073°13′07″ W; then north-by-northwest to a point in position at 40°38′52″ N, 073°13′09″ W; then north-by-northwest to a point in position at 40°39′40″ N, 073°13′30″ W; then north-by-northwest to a point in position at 40°40′30″ N, 073°14′00″ W; and then north-by-northwest, finishing at Gilbert Park, Brightwaters, NY at position 40°42′25″ N, 073°14′52″ W (NAD 83). All positions are approximate.
7.5 Mystic Sharkfest Swim | • Date: A single day in July.
| • Time: 8 a.m. to 9:30 a.m.
| • Location: All waters of the Mystic River in Mystic, CT from Mystic Seaport, down the Mystic River, under the Bascule Drawbridge at 41°21′17.046″ N, 071° 58′8.742″ W, to finish at the boat launch ramp at the north end of Seaport Marine.
7.6 Charles Island Music Festival | • Date: A single day in July.
| • Time: 11 a.m. to 6 p.m.
| • Location: Waters of The Gulf, Milford, CT.
| (1) “Non-Motorized Craft Loitering Area”. Beginning directly in front of the concert barge in position approximately at 41°11′47.2″ N, 073°3′30.6″ W; will cover a 25-yard width by 33-yard length rectangle.
| (2) “The No Anchoring or Loitering Area”. A 25-yard width section surrounding the sides of the non-motorized craft loitering area and the sides and back of the concert barge located in a position approximately at 41°11′47.2″ N, 073°3′30.6″ W; then a 25 yard width extending from the south side of the concert barge in a direction northeast for approximately 750 yards.
| (3) “Slow-No Wake Area”. Beginning at the point northeast of Charles Island at position 41°11′33.4″ N, 073°03′12.7″ W; then northwest, parallel to The Bar towards Silver Sands State Beach to a point at position 41°11′56.3″ N, 073°03′54.1″ W; then northeast along the coast to Milford Harbor Buoy “10” at position 41°12′36.9″ N, 073°02′54.4″ W; then south along the coast of Gulf Beach to Welches Point at position 41°12′06.8″ N, 073°02′16.6″ W; then west-southwest to point of origin on Charles Island at position 41°11′33.4″ N, 073°03′12.7″ W.
| (4) “Prohibited Area”. A 10-yard radius surrounding Charles Island.
| Regulations. All persons and vessels are prohibited from anchoring, mooring, or loitering inside the “No Anchoring and Loitering Area” described in paragraph (2) of this section and the prohibited area described in paragraph (4) of this section and are subject to a “Slow-No Wake” speed limit. Vessels within the regulated area described in paragraph (3) of this section may not produce more than a minimum wake and may not attain speeds greater than five knots unless a higher minimum speed is necessary to maintain steerageway when traveling with a strong current. In no case may the wake produced by a vessel within the “Slow-No Wake” area be such that it creates a danger of injury to persons or damage to vessels or structures unless specified by the COTP or their designated representative.
7.7 Jamesport Triathlon | • Date: A single day in July.
| • Time: 5:30 a.m. to 10 a.m.
| • Location: Waters of the Great Peconic Bay, NY, 1000 feet east of South Jamesport Beach and South Jamesport Park.
8 | August
8.1 Riverfront Dragon Boat and Asian Festival | • Dates: A 2-day event in August.
| • Time: 8 a.m. to 4:30 p.m. each day.
| • Location: All waters of the Connecticut River in Hartford, CT, between the Bulkeley Bridge at 41°46′10.10″ N, 072°39′56.13″ W and the Wilbur Cross Bridge at 41°45′11.67″ N, 072°39′13.64″ W (NAD 83). All positions are approximate.
8.2 Swim Across the Sound | • Date: A single day in August.
| • Time: To be determined annually.
| • Location: Waters of Long Island Sound from Port Jefferson, NY, in approximate position 40°58′11.71″ N, 073°05′51.12″ W; then northwest to Captain's Cove Seaport, Bridgeport, CT, in approximate position 41°09′25.07″ N, 073°12′47.82″ W (NAD 83).
8.3 Island Beach Two Mile Swim | • Date: A single day in August.
| • Time: To be determined annually.
| • Location: All waters of Captain Harbor between Little Captain's Island and Bower's Island that are located within the box formed by connecting four points in the following positions. Beginning at 40°59′23.35″ N, 073°36′42.05″ W; then northwest to 40°59′51.04″ N, 073°37′57.32″ W; then southwest to 40°59′45.17″ N, 073°38′01.18″ W; then southeast to 40°59′17.38″ N, 073°36′45.9″ W; then northeast to the point of origin (NAD 83). All positions are approximate.
8.4 Smith Point Triathlon | • Date: A single day in August.
| • Time: 6 a.m. to 9 a.m.
| • Location: All waters of Narrow Bay near Smith Point Park in Mastic Beach, NY, within the area bounded by land along its southern edge and points in position at 40°44′14.28″ N, 072°51′40.68″ W; then north to a point at position 40°44′20.83″ N, 072°51′40.68″ W; then east to a point at position 40°44′20.83″ N, 072°51′19.73″ W; then south to a point at position 40°44′14.85″ N, 072°51′19.73″ W; and then southwest along the shoreline back to the point of origin (NAD 83). All positions are approximate.
8.5 Moriches Bay Swim | • Date: A single day in August.
| • Time: To be determined annually.
| • Location: Waters of Moriches Bay in Westhampton, NY; 100-yard width beginning from Speonk Point, NY to Gunning Point, NY.
9 | September
9.1 Head of the Tomahawk | • Date: A single day in September.
| • Time: To be determined annually.
| • Location: All navigable waters of the Connecticut River off South Glastonbury, CT. Beginning at position 41°41′18.88″ N; 072°37′16.26″ W; then downriver along the west bank to a point at position 41°38′49.12″ N, 072°37′32.73″ W; then across the Connecticut River to a point at position 41°38′49.5″ N, 072°37′19.55″ W; then upriver along the east bank to a point at position 41°41′25.82″ N, 072°37′9.08″ W; then across the Connecticut River to the point of origin (NAD 83).
9.2 Huntington Lighthouse Music Festival | • Date: Saturday or Sunday during the first week of September.
| • Time: 10 a.m. to 8 p.m.
| • Location: Waters of Huntington Bay, Long Island, NY.
| (1) “The Lloyd Harbor Mooring Area”. Beginning at the Huntington Lighthouse, NY in position at 40°54′38″ N, 073°25′52″ W; then southwest to a point in position at 40°54′28.47″ N, 073°26′17.59″ W; then west along the coast of West Neck to a point in position at 40°54′46.32″ N, 073°26′56.25″ W; then north to a point in position at 40°54′56.24″ N, 073°26′56.24″ W; then east along Lloyd Neck to a point in position at 40°54′49.78″ N, 073°26′8.51″ W; then north-northeast along the coast of Lloyd Neck to a point in position at 40°55′5.58″ N, 073°25′50.22″ W; and then to point of origin at Huntington Lighthouse, NY in position at 40°54′38″ N, 073°25′52″ W.
| (2) “The East of Channel Mooring Area”. Beginning at the point in position at 40°54′23.21″ N, 073°25′35.55″ W; then west along the coast of Wincoma, NY to a point in position at 40°54′23″ N, 073°25′55.7″ W; then northeast to a point in position at 40°54′37.7″ N, 073°25′42.4″ W; then southeast to a point in position at 40°54′34.4″ N, 073°25′29.4″ W; and then to point of origin in position at 40°54′23.21″ N, 073°25′35.55″ W.
| (3) “Slow-No Wake Area”. All waters of Lloyd Harbor and waters of Huntington Bay south of a line from Target Rock National Wildlife Refuge at a point in position at 40°55′38.77″ N, 073°25′45.96″ and the south tip of Eaton's Neck at a point in position 40°54′51.44″ N, 073°24′17.76″ W. All coordinates are approximate and are based on datum NAD 1983.
| Regulations. All persons and vessels are prohibited from anchoring, mooring, or loitering outside the designated mooring areas and are subject to a “Slow-No Wake” speed limit. Vessels within the regulated area described in paragraph (3) of this section may not produce more than a minimum wake and may not attain speeds greater than five knots unless a higher minimum speed is necessary to maintain steerageway when traveling with a strong current. In no case may the wake produced by a vessel within the “Slow-No Wake” area be such that it creates a danger of injury to persons or damage to vessels or structures unless specified by the COTP or their designated representative.
9.3 Dolan Family Labor Day Fireworks | • Date: A single day in September.
| • Time: To be determined annually.
| • Locations:
| (1) “No Entry Area”: All waters of Oyster Bay Harbor in Long Island Sound off Oyster Bay, NY, within a 1,000-foot radius of the launch platform in approximate position 40°53′42.50″ N, 073°30′04.30″ W (NAD 83).
| (2) “Slow/No Wake Area”: All waters of Oyster Bay Harbor in Long Island Sound off Oyster Bay, NY, contained within the following area; beginning at a point on land in position at 40°53′12.43″ N, 073°31′13.05″ W near Moses Point; then east across Oyster Bay Harbor to a point on land in position at 40°53′15.12″ N, 073°30′38.45″ W; then north along the shoreline to a point on land in position at 40°53′34.43″ N, 073°30′33.42″ W near Cove Point; then east along the shoreline to a point on land in position at 40°53′41.67″ N, 073°29′40.74″ W near Cooper Bluff; then south along the shoreline to a point on land in position 40°53′05.09″ N, 073°29′23.32″ W near Eel Creek; then east across Cold Spring Harbor to a point on land in position 40°53′06.69″ N, 073°28′19.9″ W; then north along the shoreline to a point on land in position 40°55′24.09″ N, 073°29′49.09″ W near Whitewood Point; then west across Oyster Bay to a point on land in position 40°55′5.29″ N, 073°31′19.47″ W near Rocky Point; then south along the shoreline to a point on land in position 40°54′04.11″ N, 073°30′29.18″ W near Plum Point; then northwest along the shoreline to a point on land in position 40°54′09.06″ N, 073°30′45.71″ W; then southwest along the shoreline to a point on land in position 40°54′03.2″ N, 073°31′01.29″ W; and then south along the shoreline back to point of origin (NAD 83). All positions are approximate.
10.1 Head of the Riverfront Rowing Regatta | Date: A single day in October.
| Time: 5:30 a.m. to 5:30 p.m.
| Location: All waters of the Connecticut River, Hartford, CT between at point North of Wethersfield Cove at 41°43′52.17″ N, 072°38′40.38″ W and the Riverside Boat House 41°46′30.98″ N, 072°39′54.35″ W (NAD 83).

PART 165—REGULATED NAVIGATION AREAS AND LIMITED ACCESS AREAS

3. The authority citation for Part 165 continues to read as follows:

Authority: 46 U.S.C. 70034, 70051, 70124; 33 CFR 1.05-1, 6.04-1, 6.04-6, and 160.5; Department of Homeland Security Delegation No. 00170.1, Revision No. 01.3.

4. Revise § 165.151 paragraph (a)(2) and Table 1 to § 165.151 to read as follows:

§ 165.151 Safety Zones; Fireworks Displays, Air Shows and Swim Events in the Captain of the Port Long Island Sound Zone.

(a) * * *

(2) These regulations will be enforced for the duration of each event, on or about the dates indicated. In advance of the event, notifications will be made to the local maritime community through all appropriate means such as Local Notice to Mariners and Broadcast Notice to Mariners as to the exact dates and times of the enforcement period for an event. The First Coast Guard District Local Notice to Mariners can be found at: http://www.navcen.uscg.gov.

* * * * *

Table 1 to § 165.151
4 | April
4.1 Bridgeport Bluefish April Fireworks | • Date: A single day in April.
| • Time: To be determined annually.
6 | June
6.1 Barnum Festival Fireworks | • Date: A single day in June or July.
| • Time: To be determined annually.
| • Location: Waters of Bridgeport Harbor, Bridgeport, CT in approximate position 41°9′04″ N, 073°12′49″ W. (NAD 83).
6.2 Salute to Veterans Fireworks | • Date: A single day in June.
| • Location: Waters of Reynolds Channel off Hempstead, NY in approximate position 40°35′36.62″ N, 073°35′20.72″ W. (NAD 83).
7 | July
7.1 Point O'Woods Fire Company Summer Fireworks | • Date: A single day in July.
| • Time: 9 p.m. to 11 p.m.
| • Location: Waters of the Great South Bay, Point O'Woods, NY, in approximate position 40°39′18.57″ N, 073°08′5.73″ W (NAD 83).
7.2 City of Norwalk Fireworks | • Date: A single day in July.
| • Time: 8:30 p.m. to 10:30 p.m.
| • Location: Waters off Calf Pasture Beach, Norwalk, CT, in approximate position, 41°04′50″ N, 073°23′22″ W (NAD 83).
7.3 Sag Harbor Fireworks | • Date: A single day in July.
| • Time: 9 p.m. to 10 p.m.
| • Location: Waters of Sag Harbor Bay off Havens Beach, Sag Harbor, NY, in approximate position 41°00′26″ N, 072°17′9″ W (NAD 83).
| • Location: Waters of the Thames River, Norwich, CT in approximate position, 41°31′16.835″ N, 072°04′43.327″ W (NAD 83).
7.4 Southampton Fresh Air Home Fireworks | • Date: A single day in July.
| • Time: 9 p.m. to 10:30 p.m.
| • Location: Waters of Shinnecock Bay, Southampton, NY, in approximate position, 40°51′48″ N, 072°26′30″ W (NAD 83).
7.5 City of Middletown Fireworks | • Date: A single day in July.
| • Time: 8:30 p.m. to 11:30 p.m.
| • Location: Waters of the Connecticut River, Middletown Harbor, Middletown, CT, in approximate position 41°33′44.47″ N, 072°38′37.88″ W (NAD 83).
7.6 City of Norwich Fireworks | • Date: A single day in July
| • Time: 9 p.m. to 11 p.m.
| • Location: Waters of the Thames River, Norwich, CT, in approximate position, 41°31′16.835″ N, 072°04′43.327″ W (NAD 83).
7.7 City of Stamford Independence Day Celebration | • Date: A single day in July.
| • Time: 9 p.m. to 11 p.m.
| • Location: Waters of Fisher's Westcott Cove, Stamford, CT, in approximate position 41°02′09.56″ N, 073°30′57.76″ W (NAD 83).
7.8 CDM Chamber of Commerce Annual Music Fest Fireworks | • Date: A single day in July.
| • Time: 8:30 p.m. to 10:30 p.m.
| • Location: Waters off Cedar Beach Town Park, Mount Sinai, NY, in approximate position 40°57′59.58″ N, 073°01′57.87″ W (NAD 83).
7.9 Riverfest Fireworks | • Date: A single day in July.
| • Time: 8:30 p.m. to 10:30 p.m.
| • Location: Waters of the Connecticut River, Hartford, CT, in approximate positions, 41°45′39.93″ N, 072°39′49.14″ W (NAD 83).
7.10 Village of Asharoken Fireworks | • Date: A single day in July.
| • Time: 8:30 p.m. to 10:30 p.m.
| • Location: Waters of Northport Bay, Asharoken, NY, in approximate position, 41°55′54.04″ N, 073°21′27.97″ W (NAD 83).
7.11 Village of Port Jefferson Fireworks | • Date: A single day in July.
| • Time: 8:30 p.m. to 10:30 p.m.
| • Location: Waters of Port Jefferson Harbor, Port Jefferson, NY, in approximate position 40°57′10.11″ N, 073°04′28.01″ W (NAD 83).
7.12 Village of Quoque Foundering Anniversary Fireworks | • Date: A single day in July.
| • Time: 8:30 p.m. to 10:30 p.m.
| • Location: Waters of Quantuck Bay, Quoque, NY, in approximate position 40°48′42.99″ N, 072°37′20.20″ W (NAD 83).
7.13 Mashantucket Pequot Fireworks (Sailfest) | • Date: A single day in July.
| • Time: 8:30 p.m. to 11 p.m.
| • Location: Waters of the Thames River, New London, CT, in approximate positions Barge 1, 41°21′03.03″ N, 072°5′24.5″ W, Barge 2, 41°20′51.75″ N, 072°5′18.90″ W (NAD 83).
7.14 Shelter Island Fireworks | • Date: A single day in July.
| • Time: 9 p.m. to 11 p.m.
| • Location: Waters of Gardiner Bay, Shelter Island, NY, in approximate position 41°04′39.11″ N, 072°22′01.07″ W (NAD 83).
7.15 Town of North Hempstead Bar Beach Fireworks | • Date: A single day in July.
| • Time: 8:30 p.m. to 10:30 p.m.
| • Location: Waters of Hempstead Harbor, North Hempstead, NY, in approximate position 40°49′54″ N, 073°39′14″ W (NAD 83).
7.16 City of Rowayton Fireworks | • Date: A single day in July.
| • Time: 9 p.m. to 11 p.m.
| • Location: Waters of Long Island Sound south of Bayley Beach Park, Rowayton, CT, in approximate position 41°03′11″ N, 073°26′41″ W (NAD 83).
7.17 Connetquot River Summer Fireworks | • Date: A single day in July.
| • Time: 8:30 p.m. to 10:30 p.m.
| • Location: Waters of the Connetquot River off Snapper Inn Restaurant, Oakdale, NY, in approximate position 40°43′32.38″ N, 073°9′02.64″ W (NAD 83).
8 | August
8.1 Taste of Italy Fireworks | • Date: A single day in August.
| • Time: 8:30 p.m. to 10:30 p.m.
| • Location: Waters of Norwich Harbor, off Norwich Marina, Norwich, CT, in approximate position 41°31′17.72″ N, 072°04′43.41″ W (NAD 83).
8.2 City of Stamford Fireworks | • Date: A single day in August.
| • Time: 8:30 p.m. to 10:30 p.m.
| • Location: Waters of Stamford Harbor, off Kosciuszco Park, Stamford, CT, in approximate position 41°01′48.46″ N, 073°32′15.32″ W (NAD 83).
9 | September
9.1 Village of Island Park Labor Day Celebration Fireworks | • Date: A single day in September.
| • Time: 8:30 p.m. to 10:30 p.m.
| • Location: Waters off Village of Island Park Fishing Pier, Village Beach, NY, in approximate position 40°36′30.95″ N, 073°39′22.23″ W (NAD 83).
9.2 Archangel Michael Greek Orthodox Church Fireworks | • Date: A single day in September or October.
| • Time: 8:30 p.m. to 10:30 p.m.
| • Location: Waters of Hempstead Harbor off Bar Beach Town Park, Port Washington, NY, in approximate position 40°49′42″ N, 073°39′07″ W (NAD 83).
9.3 Port Washington Sons of Italy Fireworks | • Date: A single day in September.
| • Time: 8:30 p.m. to 10:30 p.m.
| • Location: Waters of Hempstead Harbor off Bar Beach, North Hempstead, NY, in approximate position 40°49′48.04″ N, 073°39′24.32″ W (NAD 83).
9.4 Town of Hempstead “Big Shot” Concert and Fireworks Display | • Date: A single day in September.
| • Time: 9:30 p.m. to 11:59 p.m.
| • Location: Waters of Reynolds Channel at Lido Beach in Town of Hempstead, NY, in approximate position 40°35′36.81″ N, 073°35′20.37″ W (NAD 83).
11 | November
11.1 Charles W. Morgan Anniversary Fireworks | • Date: A single day in November.
| • Time: 8 p.m. to 11 p.m.
| • Location: Waters of the Mystic River, north of the Mystic Seaport Light, Mystic, CT, in approximate position 41°21′56.455″ N, 071°57′58.32″ W (NAD 83).
11.2 Connetquot River Fall Fireworks | • Date: A single day in November.
| • Time: 8 p.m. to 11 p.m.
| • Location: Waters of the Connetquot River off Snapper Inn Restaurant, Oakdale, NY, in approximate position 40°43′32.38″ N, 073°09′02.64″ W (NAD 83).

Dated: March 15, 2023.
S.A. Koch,
Commander, U.S. Coast Guard Alternate Captain of the Port Long Island Sound.

[FR Doc. 2023-05955 Filed 3-22-23; 8:45 am]

BILLING CODE 9110-04-P